DEPARTMENT OF COMMERCE

International Trade Administration

[A-570-863]

Honey From the People's Republic of China: Preliminary Results and Preliminary Intent To Rescind of Antidumping Duty Administrative Review; 2017-2018

AGENCY: Enforcement and Compliance, International Trade Administration, Department of Commerce.

SUMMARY: The Department of Commerce (Commerce) preliminarily determines that Jiangsu Runchen Agricultural/Sideline Foodstuff Co., Ltd. (Runchen) did not make a bona fide sale of honey for the period of review (POR) December 1, 2017 through November 30, 2018. Therefore, Commerce preliminarily intends to rescind this administrative review. Interested parties are invited to comment on the preliminary results of this review.

DATES: Applicable December 4, 2019.

FOR FURTHER INFORMATION CONTACT: Jasun Moy or Kabir Archuletta, AD/CVD Operations, Office V, Enforcement and Compliance, International Trade Administration, U.S. Department of Commerce, 1401 Constitution Avenue NW, Washington, DC 20230; telephone: (202) 482-8194 or (202) 482-2593, respectively.

SUPPLEMENTARY INFORMATION:

Background

On March 14, 2019, Commerce initiated an administrative review of the antidumping duty order on honey from the People's Republic of China (China) in accordance with section 751(a) of the Tariff Act of 1930, as amended (the Act), with respect to three companies: Runchen; Inner Mongolia Komway Import & Export Co., Ltd.; and Shenzhen Long Sheng Shang Mao Ltd.¹ On June 24, 2019, Commerce rescinded its review of two of these companies, leaving Runchen as the sole mandatory respondent in this review.²

¹ See Honey from the People's Republic of China: Continuation of Antidumping Duty Order, 83 FR 18277 (April 2, 2018); see also Honey from the People's Republic of China: Affirmative Final Determination of Circumvention of the Antidumping Duty Order, 77 FR 50464 (August 21, 2012); and Initiation of Antidumping and Countervailing Duty Administrative Reviews, 84 FR 9297 (March 14, 2019) (Initiation Notice).

² See Honey from the People's Republic of China: Partial Rescission of Antidumping Duty Administrative Review; 2017-2018, 84 FR 29498 (June 24, 2019).

In accordance with 19 CFR 351.213(h)(1), the preliminary and final results deadlines in administrative reviews are calculated based on the “last day of the anniversary month of the order or suspension agreement for which the administrative review was requested,” which in this proceeding was December 31, 2018. Commerce exercised its discretion to toll all deadlines affected by the partial federal government closure from December 22, 2018 through the resumption of operations on January 29, 2019, by 40 days.³ This review was therefore initiated on March 13, 2019.⁴ As a result, the time period allotted to Commerce for conducting this administrative review overlapped the tolling period by 31 days. Accordingly, Commerce tolled all deadlines by 31 days for this review.⁵ On September 19, 2019, pursuant to section 751(a)(3)(A) of the Act, Commerce determined that it was not practicable to complete the preliminary results of this review within the 245 days and extended the preliminary results by 61 days.⁶ The revised deadline for the preliminary results in this review is now December 3, 2019.

³ See Memorandum, “Deadlines Affected by the Partial Shutdown of the Federal Government,” dated January 28, 2019. All deadlines in this segment of the proceeding have been extended by 31 days.

⁴ See Initiation Notice.

⁵ See Memorandum, “December Order Deadlines Affected by the Partial Shutdown of the Federal Government,” dated August 7, 2019.

⁶ See Memorandum, “Honey from the People's Republic of China: Extension of Deadline for Preliminary Results of Antidumping Duty Administrative Review,” dated September 19, 2019.

Scope of the Order

The merchandise subject to this order are natural honey, artificial honey containing more than 50 percent natural honey by weight, preparations of natural honey containing more than 50 percent natural honey by weight, and flavored honey. For a full description of the scope, see the Preliminary Decision Memorandum.⁷

⁷ See Memorandum, “Decision Memorandum for the Preliminary Results of the Antidumping Duty Administrative Review of Honey from the People's Republic of China; 2017-2018,” dated concurrently with, and hereby adopted by, this notice (Preliminary Decision Memorandum).

China-Wide Entity

Commerce's policy regarding conditional review of the China-wide entity applies to this administrative review.⁸ Under this policy, the China-wide entity will not be under review unless a party specifically requests, or Commerce self-initiates, a review of the entity. Because no party requested a review of the China-wide entity in this review, the entity is not under review and the entity's rate (i.e., $2.63 per kilogram) is not subject to change.⁹

⁸ See Antidumping Proceedings: Announcement of Change in Department Practice for Respondent Selection in Antidumping Duty Proceedings and Conditional Review of the Nonmarket Economy Entity in NME Antidumping Duty Proceedings, 78 FR 65963 (November 4, 2013).

⁹ See Honey from the People's Republic of China: Final Results of Antidumping Duty Administrative Review; 2012-2013, 80 FR 27633-34 (May 14, 2015).

Methodology

Commerce is conducting this review in accordance with section 751(a)(1)(B) of the Act. For a full description of the methodology underlying our conclusions, see the Preliminary Decision Memorandum. A list of the topics included in the Preliminary Decision Memorandum is included as an appendix to this notice. The Preliminary Decision Memorandum is a public document and is made available to the public via Enforcement and Compliance's Antidumping and Countervailing Duty Centralized Electronic Service System (ACCESS). ACCESS is available to registered users at https://access.trade.gov, and it is available to all parties in the Central Records Unit, room B8024 of the main Commerce building. The signed and electronic versions of the Preliminary Decision Memorandum are identical in content.

Preliminary Rescission of the Administrative Review

As discussed in the Preliminary Decision Memorandum and as expounded upon in the Bona Fide Memorandum, Commerce preliminarily finds that the sale made by Runchen serving as the basis for this review is not a bona fide sale of honey.¹⁰ Commerce reached this conclusion based on the totality of the record information surrounding Runchen's reported sale, including, but not limited to, the sales price and quantity, the profitability of the resold subject merchandise, the late payments, the limited number of sales (i.e., one sale), and the importer/exporter experience and likelihood of future sales.

¹⁰ See Memorandum, “Preliminary Bona Fide Sales Analysis,” dated concurrently with this notice (Bona Fide Memorandum).

Because the non-bona fide sale was the only reported sale of subject merchandise during the POR, we find that Runchen had no reviewable transactions during this POR. Accordingly, we preliminarily intend to rescind this administrative review.¹¹ The factual information used in our bona fides analysis of Runchen's sale involves business proprietary information. See the Bona Fide Memorandum for a full discussion of the basis for our preliminary findings.

¹¹ See 19 CFR 351.213(d)(3).

Public Comment

Interested parties are invited to comment on the preliminary results and may submit case briefs and/or written comments, filed electronically using ACCESS, within 30 days of the date of publication of this notice, pursuant to 19 CFR 351.309(c)(1)(ii). Rebuttal briefs, limited to issues raised in the case briefs, will be due five days after the due date for case briefs, pursuant to 19 CFR 351.309(d). Parties who submit case or rebuttal briefs in this review are requested to submit with each argument a statement of the issue, a summary of the argument not to exceed five pages, and a table of statutes, regulations, and cases cited, in accordance with 19 CFR 351.309(c)(2).

Pursuant to 19 CFR 351.309(c)(2) and (d)(2), parties who submit case briefs or rebuttal briefs in this proceeding are encouraged to submit with each argument: (1) A statement of the issue; (2) a brief summary of the argument; and (3) a table of authorities.

Pursuant to 19 CFR 351.310(c), interested parties who wish to request a hearing must submit a written request to the Assistant Secretary for Enforcement and Compliance, filed electronically via ACCES. An electronically filed document must be received successfully in its entirety by 5:00 p.m. Eastern Time within 30 days after the date of publication of this notice. Requests should contain: (1) The party's name, address and telephone number; (2) the number of participants; (3) whether any participant is a foreign national; and (4) a list of issues parties intend to discuss. Issues raised in the hearing will be limited to those raised in the respective case and rebuttal briefs.¹² If a request for a hearing is made, Commerce intends to hold the hearing at the U.S. Department of Commerce, 1401 Constitution Avenue NW, Washington, DC 20230, at a date and time to be determined.¹³ Parties should confirm by telephone the date, time, and location of the hearing two days before the scheduled date.

¹² See 19 CFR 351.310(c).

¹³ See 19 CFR 351.310(d).

Unless otherwise extended, Commerce intends to issue the final results of this administrative review, which will include the results of its analysis of issues raised in any briefs, within 120 days of publication of these preliminary results, pursuant to section 751(a)(3)(A) of the Act.

Assessment Rates

If Commerce proceeds to a final rescission of this administrative review, the assessment rate to which Runchen's shipments are subject will not be affected by this review. If Commerce does not proceed to a final rescission of this administrative review, pursuant to 19 CFR 351.212(b)(1), we will calculate importer-specific (or customer-specific) assessment rates based on the final results of this review.

Cash Deposit Requirements

If Commerce proceeds to a final rescission of this administrative review, Runchen's cash deposit rate will continue to be the China-wide rate of $2.63 per kilogram. If Commerce issues final results for this administrative review, Commerce will instruct U.S. Customs and Border Protection to collect cash deposits, effective upon the publication of the final results, at the rates established therein.

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the assessment of doubled antidumping duties.

Notification to Interested Parties

This administrative review and notice are issued and published in accordance with sections 751(a)(1) and 777(i)(1) of the Act and 19 CFR 351.221(b)(4).

Dated: November 29, 2019.
Jeffrey I. Kessler,
Assistant Secretary for Enforcement and Compliance.

Appendix

List of Topics Discussed in the Preliminary Decision Memorandum

I. Summary

II. Background

III. Scope of the Order

IV. Discussion of the Methodology

V. Recommendation

[FR Doc. 2019-26219 Filed 12-3-19; 8:45 am]

BILLING CODE 3510-DS-P